DEPARTMENT OF LABOR

Employment and Training Administration

[TA-W-58,652]

Atlantic Luggage Company; Ellwood City, PA; Notice of Termination of Investigation

Pursuant to Section 221 of the Trade Act of 1974, as amended, an investigation was initiated on January 18, 2006 in response to a worker petition filed by a company official on behalf of workers at Atlantic Luggage Company, Ellwood City, Pennsylvania.

The petitioner has requested that the petition be withdrawn. Consequently, the investigation has been terminated.

Signed at Washington, DC this 10th day of February 2006.
Richard Church,
Certifying Officer, Division of Trade Adjustment Assistance.

[FR Doc. E6-3073 Filed 3-2-06; 8:45 am]

BILLING CODE 4510-30-P